DEPARTMENT OF STATE

[Public Notice: 6264]

60-Day Notice of Proposed Information Collection: Exchange Visitor (J-1 Visa) Compliance Evaluation Program, SV-2008-0014, Secondary School Student; SV-2008-0015, Summer Work Travel; SV-2008-0016, Training Program; SV-2008-0017, Internship Program, New-OMB No. 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Exchange Visitor (J-1 Visa) Compliance Evaluation Program.

• OMB Control Number: None.

• Type of Request: New Collection.

• Originating Office: Bureau of Educational and Cultural Affairs (ECA), Office of Exchange Coordination and Designation (ECA/EC).

• Form Numbers: SV-2008-0014, SV-2008-0015, SV-2008-0016, SV-2008-0017.

• Respondents: Participants and hosts associated with the Exchange Visitor Program.

• Estimated Number of Respondents: 378.

• Estimated Number of Responses: 378.

• Average Hours Per Response: 30 minutes.

• Total Estimated Burden: 190 hours.

• Frequency: On occasion.

• Obligation to Respond: Voluntary.

DATES: The Department will accept comments from the public up to 60 days from June 18, 2008.

ADDRESSES: You may submit comments by any of the following methods:

• E-mail: jexchanges@state.gov

• Mail (paper, disk, or CD-ROM submissions): Stanley S. Colvin, U.S. Department of State, Bureau of Educational and Cultural Affairs, Office of Exchange Coordination and Designation (ECA/EC), 301 4th Street, SW., Room 734 (SA-44), Washington, DC 20547.

You must include the DS form number (if applicable), information collection title, and OMB control number in any correspondence.

FOR FURTHER INFORMATION CONTACT: Direct requests for additional information regarding the collection listed in this notice, including requests for copies of the proposed information collection and supporting documents, to Stanley S. Colvin, U.S. Department of State, Bureau of Educational and Cultural Affairs, Office of Exchange Coordination and Designation (ECA/EC), 301 4th Street, SW., Room 734 (SA-44), Washington, DC 20547, who may be reached at jexchanges@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The information collection will facilitate the Bureau of Educational and Cultural Affairs (ECA) ability to regularly collect feedback information and data from participants and hosts associated with ECA's Exchange Visitor (J-1 Visa) Program (EVP). This information will allow ECA to assess and improve the EVP program, ensure that sponsors comply with the appropriate statutes and regulations, and assess participant and host satisfaction with their EVP exchange experience.

Methodology: Data collected through the information collection will be derived primarily from respondent web-based surveys, and, secondarily, from personal interviews and/or focus groups, and site visits, as necessary.

Dated: April 8, 2008.
Sheldon Yuspeh, ECA-IIP/EX,
Executive Director, Bureau of Educational and Cultural Affairs (ECA), Department of State.

[FR Doc. E8-13782 Filed 6-17-08; 8:45 am]

BILLING CODE 4710-05-P